DEPARTMENT OF LABOR

Occupational Safety and Health Administration

[Docket No. OSHA-2006-0041]

Southwest Research Institute: Modification of Scope of Recognition

AGENCY: Occupational Safety and Health Administration (OSHA), Labor.

ACTION: Notice.

SUMMARY: In this notice, OSHA is issuing a determination deleting a test standard from the scope of recognition of a Nationally Recognized Testing Laboratory (NRTL), Southwest Research Institute, based on that NRTL's voluntary request that OSHA reduce its scope of recognition.

DATES: This modification of scope is effective on May 30, 2013.

FOR FURTHER INFORMATION CONTACT: Information regarding this notice is available from the following sources:

Press inquiries: Contact Mr. Frank Meilinger, Director, OSHA Office of Communications, Room N-3647, U.S. Department of Labor, 200 Constitution Avenue NW., Washington, DC 20210; telephone: (202) 693-1999; email Meilinger.francis2@dol.gov.

General and technical information: Contact David Johnson, NRTL Program, Occupational Safety and Health Administration, Room N-3655, U.S. Department of Labor, 200 Constitution Avenue NW., Washington, DC 20210; telephone (202) 693-2110. OSHA's Web page includes information about the NRTL Program (see http://www.osha.gov and select “N” in the “A to Z Index” located at the top of the Web page).

Copies of this Federal Register notice: Electronic copies of this Federal Register notice are available under Docket No. OSHA-2006-0041 at http://www.regulations.gov. This Federal Register notice is also available on OSHA's Web page at http://www.osha.gov. Access the Federal Register notice on this Web page by selecting “F” under the “A to Z Index” at the top of the page.

SUPPLEMENTARY INFORMATION:

I. Determination Regarding Southwest Research Institute

Southwest Research Institute (SWRI) requested OSHA to delete a test standard, UL 60950—Information Technology Equipment (see Exhibit OSHA-2006-0041-003), from its scope of recognition. Subsection II.D of Appendix A to 29 CFR 1910.7 provides that OSHA must inform the public of such a reduction in scope. Accordingly, OSHA hereby notifies the public that it is deleting UL 60950 from SWRI's scope of recognition as of May 30, 2013. As of May 30, 2013, OSHA will no longer accept certifications by SWRI that products conform to UL 60950, and OSHA will delete UL 60950 from SWRI's scope of recognition on the OSHA Web page.

SWRI must notify those NRTL clients for which SWRI certified that products conformed to UL 60950 that SWRI's scope of recognition no longer includes UL 60950. SWRI's notification to each affected client also must inform the client that it must now obtain its product certification services, with respect to UL 60950, from an NRTL with a scope of recognition that continues to include UL 60950. SWRI's notification to each affected client must be in writing and received by the client within two weeks of the date of this Notice.

II. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2)), Secretary of Labor's Order No. 1-2012 (77 FR 3912, Jan. 25, 2012), and 29 CFR 1910.7.

Signed at Washington, DC, on May 23, 2013.
David Michaels,
Assistant Secretary of Labor for Occupational Safety and Health.

[FR Doc. 2013-12809 Filed 5-29-13; 8:45 am]

BILLING CODE 4510-26-P